DEPARTMENT OF COMMERCE

National Oceanic and Atmospheric Administration

50 CFR Part 679

[Docket No. 041126333-5040-02; I.D. 092105A]

Fisheries of the Exclusive Economic Zone Off Alaska; Pollock in Statistical Areas 620 and 630 of the Gulf of Alaska

AGENCY: National Marine Fisheries Service (NMFS), National Oceanic and Atmospheric Administration (NOAA), Commerce.

ACTION: Temporary rule; modification of a closure.

SUMMARY: NMFS is opening directed fishing for pollock in Statistical Area 630 of the Gulf of Alaska (GOA) for 24 hours and opening directed fishing for pollock in Statistical area 620 of the GOA. This action is necessary to fully use the C season allowance of the 2005 total allowable catch (TAC) of pollock specified for Statistical Areas 620 and 630.

DATES: Opening directed fishing for pollock in Statistical area 630 of the Gulf of Alaska: Effective 1200 hrs, Alaska local time (A.l.t.), September 22, 2005, through 1200 hrs, A.l.t., September 23, 2005. Opening directed fishing for pollock in Statistical area 620 of the Gulf of Alaska: Effective 1200 hrs, A.l.t., September 22, 2005, through 1200 hrs, A.l.t., October 1, 2005.

FOR FURTHER INFORMATION CONTACT: Josh Keaton, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

NMFS closed the directed fishery for pollock in Statistical Area 630 of the GOA under § 679.20(d)(1)(iii) on August 27, 2005 (70 FR 51300, August 30, 2005). NMFS opened directed fishing for pollock in Statistical Area 630 of the GOA for 48 hrs on September 8, 2005 (70 FR 53971, September 13, 2005) and for 24 hrs on September 15, 2005 (70 FR 55305, September 21, 2005).

NMFS has determined that approximately 1,550 mt of pollock remain in the directed fishing allowance for Statistical Area 630 of the GOA. Therefore, in accordance with 679.25(a)(1)(i), (a)(2)(i)(C) and (a)(2)(iii)(D), and to fully utilize the C season allowance of the 2005 TAC of pollock in Statistical area 630, NMFS is terminating the previous closure and is reopening directed fishing for pollock in Statistical Area 630 of the GOA. In accordance with § 679.20(d)(1)(iii), the Regional Administrator finds that this directed fishing allowance will be reached after 24 hours. Consequently, NMFS is prohibiting directed fishing for pollock in Statistical Area 630 of the GOA effective 1200 hrs, A.l.t., September 23, 2005.

NMFS closed the directed fishery for pollock in Statistical Area 620 of the GOA under § 679.20(d)(1)(iii) on August 29, 2005 (70 FR 51300, August 30, 2005). NMFS opened directed fishing for pollock in Statistical Area 620 of the GOA for 96 hrs on September 8, 2005 (70 FR 53971, September 13, 2005) and for 96 hrs on September 15, 2005 (70 FR 55305, September 21, 2005).

NMFS has determined that approximately 3,900 mt of pollock remain in the directed fishing allowance for Statistical Area 620 of the GOA. Therefore, in accordance with 679.25(a)(1)(i), (a)(2)(i)(C) and (a)(2)(iii)(D), and to fully utilize the C season allowance of the 2005 TAC of pollock in Statistical area 620, NMFS is terminating the previous closure and is reopening directed fishing for pollock in Statistical Area 620 of the GOA.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the opening of pollock in Statistical Areas 620 and 630 of the GOA. NMFS was unable to publish a an action providing time for public comment because the most recent, relevant data only became available as of September 19, 2005.

The AA also finds good cause to waive the 30-day delay in the effective date of this action under 5 U.S.C. 553(d)(3). This finding is based upon the reasons provided above for waiver of prior notice and opportunity for public comment.

This action is required by §§ 679.20 and 679.25 and is exempt from review under Executive Order 12866.

Authority: 16 U.S.C. 1801 et seq.

Dated: September 21, 2005.
Alan D. Risenhoover,
Acting Director, Office of Sustainable Fisheries, National Marine Fisheries Service.

[FR Doc. 05-19168 Filed 9-21-05; 2:17 pm]

BILLING CODE 3510-22-S